Title 3—

The President

Proclamation 7548 of April 30, 2002

Law Day, U.S.A., 2002

By the President of the United States of America

A Proclamation

One of our Nation's greatest strengths is its commitment to a just, fair legal system and the protection it affords to the rights and freedoms we cherish. On May 1, we observe Law Day to draw attention to the principles of justice and the practice of law. The theme of this year's Law Day, “Celebrate Your Freedom: Assuring Equal Justice for All,” acknowledges the essential task of protecting the rights of every American.

When disputes or conflicts arise, or when persons are charged with violating the law, resolution often occurs within the legal system. Consultation with an attorney is a common first step in this process. Attorneys advise clients of their rights and obligations, suggest possible courses of action, and help their clients to understand legal procedures. Attorneys are zealous advocates on behalf of their clients, helping to ensure that each one receives full and fair representation before the courts. Bar associations and other attorney groups play an important role in maintaining the integrity of our legal system by overseeing admission to the bar and setting standards of discipline for those who practice law.

Our Founding Fathers believed that a strong and independent judiciary was a cornerstone of democracy. Judges must be men and women of skill, discernment, experience, and character who meet the highest standards of training, temperament, and impartiality. They must understand and honor the powers granted to them under the Constitution, as well as the limits on those powers. In criminal matters, judges help to ensure that the innocent remain free and the guilty are appropriately punished. In civil disputes, judges' decisions help to safeguard the stability of the commercial marketplace and address the grievances of wronged parties. Judges are called upon daily to render decisions that are based upon the law and facts of each case, without regard for popular opinion or political or other extraneous pressures.

Our forefathers imagined a well-qualified judiciary put in place through a dynamic and constructive interaction between the executive and legislative branches of Government. Under our Constitution, the President selects individuals for nomination to the Federal judiciary and the Senate provides its advice and consent. In all cases, both branches of Government strive to make certain that only men and women of the highest intellect, character, integrity, judgment, and experience are appointed to serve our Nation and its citizens in these critical positions.

This Law Day, I encourage all Americans to reflect on the vital work performed by our Federal judiciary in upholding the rule of law and on the importance of a robust and independent judiciary in our system of Government.

NOW, THEREFORE, I, GEORGE W. BUSH, President of the United States of America, in accordance with Public Law 870920, as amended, do hereby proclaim May 1, 2002, as Law Day, U.S.A. I call upon all the people of the United States to observe this day with appropriate ceremonies and activities. I also call upon Government officials to display the flag of the United States in support of this national observance.

IN WITNESS WHEREOF, I have hereunto set my hand this thirtieth day of April, in the year of our Lord two thousand two, and of the Independence of the United States of America the two hundred and twenty-sixth.

B

[FR Doc. 02-11245

Filed 05-02-02; 9:31 am]

Billing code 3195-01-P